ENVIRONMENTAL PROTECTION AGENCY

[FRL-7423-2]

Chesapeake Bay Program

The U.S. Environmental Protection Agency's Chesapeake Bay Program Office, on behalf of the partners of the Chesapeake Bay Program, announces an extension to the comment period for the Draft Chesapeake Bay Comprehensive Oyster Management Plan until January 15, 2003. The draft plan addresses both habitat restoration and oyster fishery management. It emphasizes biologically based, strategic decision making, enables an adaptive management approach, and provides for better coordination among key agencies, organizations, and institutions involved in oyster restoration in Maryland and Virginia waters of Chesapeake Bay and its tidal tributaries. The Chesapeake Bay oyster partners include the U.S. Environmental Protection Agency, the U.S. Army Corps of Engineers, the National Oceanic and Atmospheric Administration, the Maryland Department of Natural Resources, the Virginia Marine Resources Commission, the Maryland Oyster Recovery Partnership, the Virginia Oyster Heritage Program, the Chesapeake Bay Foundation, the University of Maryland, and the Virginia Institute of Marine Science. Following receipt of comments, a final draft plan will be circulated to Chesapeake Bay Program signatory partners for approval. It is expected that the final plan will be adopted by the Chesapeake Executive Council in 2003. The draft plan is available on-line at the EPA Region III Web site http://www.epa.gov/r3chespk/, or at the Chesapeake Bay Program Web site http://www.chesapeakebay.net or by regular mail from the EPA Chesapeake Bay Program Office (Phone: 410-267-5700).

Comments should be postmarked no later than January 15, 2003. Comments can be sent either by email to fritz.mike@epa.gov or by regular mail to Michael Fritz, U.S. EPA, 410 Severn Avenue, Suite 109, Annapolis, MD 21403. Further information about the Chesapeake Bay Program and oysters and other living resources in the bay is available at http://www.chesapeakebay.net.

Diana Esher,
Deputy Director, Chesapeake Bay Program Office.

[FR Doc. 02-31670 Filed 12-16-02; 8:45 am]

BILLING CODE 6560-50-P